ENVIRONMENTAL PROTECTION AGENCY

[EPA-HQ-OECA-2013-0323; FRL-10025-85-OMS]

Information Collection Request Submitted to OMB for Review and Approval; Comment Request; NESHAP for Electric Arc Furnace Steelmaking Facilities (Renewal)

AGENCY: Environmental Protection Agency (EPA).

ACTION: Notice.

SUMMARY: The Environmental Protection Agency has submitted an information collection request (ICR), NESHAP for Electric Arc Furnace Steelmaking Facilities (EPA ICR Number 2277.06, OMB Control Number 2060-0608), to the Office of Management and Budget (OMB) for review and approval in accordance with the Paperwork Reduction Act. This is a proposed extension of the ICR, which is currently approved through August 31, 2021. Public comments were previously requested, via the Federal Register, on May 12, 2020 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before August 2, 2021.

ADDRESSES: Submit your comments, referencing Docket ID Number EPA-HQ-OECA-2013-0323, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person, at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Electric Arc Furnace Steelmaking Facilities (40 CFR part 63, subpart YYYYY) apply to existing facilities and new Electric Arc Furnace (EAF) steelmaking facilities that are area sources of hazardous air pollutants (HAP) emissions. These standards establish particulate matter (PM) emission limits for control devices and opacity limits for melt shops, pollution prevention requirements for ferrous scrap that is melted in EAFs, and monitoring, reporting, and recordkeeping requirements. New facilities include those that commenced construction or reconstruction after the date of proposal. NESHAP standards require initial notifications, performance tests, and periodic reports by the owners/operators of the affected facilities. They are also required to maintain records of the occurrence and duration of any startup, shutdown, or malfunction in the operation of an affected facility, or any period during which the monitoring system is inoperative. These notifications, reports, and records are used by EPA to determine compliance with these standards.

Form Numbers: None.

Respondents/affected entities: Owners or operators of electric arc furnace steelmaking facilities.

Respondent's obligation to respond: Mandatory (40 CFR part 63, subpart YYYYY).

Estimated number of respondents: 81 (total).

Frequency of response: Initially, semiannually, and occasionally.

Total estimated burden: 4,000 hours (per year). Burden is defined at 5 CFR 1320.3(b).

Total estimated cost: $485,000 (per year), which includes $15,500 in annualized capital/startup costs. There are no operation & maintenance costs.

Changes in the Estimates: There is an adjustment decrease in the total estimated respondent burden as currently identified in the OMB Inventory of Approved Burdens. This decrease is not due to any program changes. The decrease in burden from the most-recently approved ICR is due to a decrease in the number of affected existing facilities, as identified by a review of the EAF facility source list and by consulting with internal Agency experts at OAQPS. This change also results in an increase in capital/startup costs. The previous ICR did not account for any capital/startup costs as the growth rate for the industry was very low during that time period, so no initial compliance costs were associated with these standards. However, we expect that there will be 1.6 new respondents each year over the next three years, and the increase in capital/startup costs accounts for the cost of initial performance testing for those facilities. Despite this increase in capital/startup costs, the overall cost estimate for this burden has decreased due to a decrease in the number of currently existing facilities.

Courtney Kerwin,
Director, Regulatory Support Division.

[FR Doc. 2021-14119 Filed 6-30-21; 8:45 am]

BILLING CODE 6560-50-P